DEPARTMENT OF AGRICULTURE

Forest Service

Final Records of Decision for the Sequoia and Sierra National Forests

AGENCY: Forest Service, Agriculture (USDA).

ACTION: Notice of approval of the revised land management plans for the Sequoia and Sierra National Forests.

SUMMARY: Teresa Benson, the Forest Supervisor for the Sequoia National Forest, Pacific Southwest Region, and Dean Gould, the Forest Supervisor for the Sierra National Forest, Pacific Southwest Region, signed final records of decision (RODs) for revised land management plans for the Sequoia and Sierra National Forests, respectively. The final RODs document the rationale for approving the revised land management plans and are consistent with the Reviewing Officer's response to objections and instructions.

DATES: The revised land management plans for the Sequoia and Sierra National Forests will become effective 30 days after the publication of this notice of approval in the Federal Register (36 CFR 219.17(a)(1)).

ADDRESSES: To view the final records of decision, final environmental impact statement (FEIS), revised land management plans, and other related documents, please visit the Sequoia and Sierra National Forests Plan Revision project website at: https://www.fs.usda.gov/project/?project=3375. A legal notice of approval is also being published in the Sequoia National Forest's newspaper of record, the Porterville Recorder, and the Sierra National Forest's newspaper of record, the Fresno Bee. A copy of this legal notice will be posted on the website listed above.

FOR FURTHER INFORMATION CONTACT: Bobbie Miller, Plan Revision Team Leader, Email: bobbie.miller@usda.gov or Phone: (530) 643-6226.

Individuals who use telecommunication devices for the deaf and hard of hearing (TDD) may call the Federal Relay Service (FRS) at 800-877-8339, 24 hours a day, every day of the year, including holidays.

SUPPLEMENTARY INFORMATION: The revised land management plans were developed pursuant to the 2012 Forest Service Planning Rule (36 CFR 219) and will replace the 1988 Sequoia National Forest Land Management Plan and 1990 Mediated Settlement Agreement, and the 1992 Sierra National Forest Land Management Plan. The revised plans describe desired conditions, objectives, standards, and guidelines that will guide future projects and management activities on the forests and will become effective 30 days after the publication of this notice of approval in the Federal Register (36 CFR 219.17(a)(1)). The Forest Service initiated plan revision for these two national forests in 2013 and developed the revised plans through extensive collaboration and consultation with Tribes, interested public, and other stakeholders.

The revised plans will help sustain forest and watershed health and productivity by addressing tree mortality, restoring forest conditions, facilitating use of fire to achieve desired conditions, and providing for sustainable recreation. The plans provide management direction that applies the best available science for conserving at-risk species like the Pacific fisher and California spotted owl. The revised land management plans, FEIS, and draft RODs were released in June 2022, initiating a 60-day objection filing period. The Forest Service received 27 eligible objections. The Reviewing Officer, Deputy Regional Forester Jody Holzworth, reviewed each of the objections, met with objectors and interested parties at an objection resolution meeting, and issued a written response to the objections on December 16, 2022. In her written response, the Reviewing Officer included instructions for the Responsible Officials to implement prior to signing final decisions.

The forests updated the FEIS, revised land management plans, RODs, and planning record as needed, consistent with instructions from the Objection Reviewing Officer. The final RODs to approve the revised land management plans for the Sequoia and Sierra and National Forests have now been signed by the Responsible Officials and are available at the website listed above.

Responsible Official: The Responsible Official for approving the Sequoia National Forest revised land management plan is Forest Supervisor Teresa Benson. The Responsible Official for approving the Sierra National Forest revised land management plan is Forest Supervisor Dean Gould. The Responsible Official approving the list of species of conservation concern is Jacqueline Emanuel, Associate Deputy Chief, National Forest System.

Dated: May 19, 2023.
Jacqueline Emanuel,
Associate Deputy Chief, National Forest System.

[FR Doc. 2023-11347 Filed 5-25-23; 8:45 am]

BILLING CODE 3411-15-P